DEPARTMENT OF JUSTICE

Immigration and Naturalization Service

[INS No. 2093-00]

Establishing an Immigration and Naturalization Service Data Management Improvement Act Task Force

AGENCY: Immigration and Naturalization Service, Justice.

ACTION: Notice establishing a Task Force.

SUMMARY: In accordance with the provisions of the Federal Advisory Committee Act, and Public Law 106-215, the Attorney General is establishing an Immigration and Naturalization Service Data Management Improvement Act Task Force. This notice advises Federal, State, and local agencies, and private sector representatives that the Immigration and Naturalization Service (Service) is soliciting members from interested groups, associations, or individuals who may wish to serve on the Task Force.

Purpose of Task Force

The Task Force will evaluate and make recommendations on:

(1) How the Attorney General, in consultation with the Secretaries of State, Treasury, and Commerce can efficiently and effectively implement an integrated entry and exit data system;

(2) How the United States can improve the flow of traffic at airports, seaports, and land border ports-of-entry through—

(a) Enhancing systems for data collection and data sharing, including the integrated entry and exit data system, by better use of technology, resources, and personnel;

(b) Increasing cooperation between the public and private sectors;

(c) Increasing cooperation among Federal agencies and among Federal and State agencies; and

(d) Modifying information technology systems while taking into account the different data systems, infrastructure, and processing procedures at airports, seaports, and land border ports-of-entry; and

(3) The cost of implementing each of the Task Force's recommendations.

Further, no later than December 31, 2002 and no later than December 31 of each subsequent year the Task Force is in existence, the Attorney General shall submit a report to Congress containing the findings, conclusions, and recommendations of the Task Force.

Composition of Task Force

The Task Force shall be composed of 17 members, including the Attorney General, private sector representatives of affected industries and groups, and representatives from Federal, State, and local agencies, who have an interest in: immigration and naturalization; travel and tourism; transportation; trade; law enforcement; national security; or the environment. Participation on the Task Force will not be remunerated, however, travel and associated expenses may be reimbursed or borne by the Government.

Qualification of Task Force members

Groups, associations, or individuals who wish to be considered for inclusion on this Task Force should have a background that reflects a good working knowledge of entry and exit procedures and business practices. Ideally, this knowledge should include all of the environments where inspections take place (i.e., airports, northern and southern land borders ports, and seaports).

Additionally, it would be helpful for interested groups, associations, or individuals to understand modern data collection and matching processes in an automated environment and how the requirements of Public Law 106-215 can be best met given the business practices of ports-of-entry, and the competing goals of enforcing the Immigration and Nationality Act and facilitating the movement of travelers. For more information concerning the Task Force, see Public Law 106-215 on the Service's website at http://www.ins.usdoj.gov.

In considering what groups, associations, or individuals should serve on the Task Force, the Service will make every effort to balance both geographical interests to ensure the unique characteristics of each type of port-of-entry are considered and the needs of various industries that depend on the efficient operation of ports-of-entry.

Federal Advisory Committee Act

The Task Force will function solely as an advisory body in compliance with the provisions of the Federal Advisory Committee Act (FACA). Its charter will be filed in accordance with the provisions of that FACA.

Solicitation of Public Opinion Regarding Task Force Membership

The Department of Justice is seeking input from groups, associations or individuals to determine the optimal Task Force composition. Please send suggestions and a brief background or justification to the Immigration and Naturalization Service, Office of Inspections, 425 I Street, NW, Room 4064, Washington, DC 20536, Attn: Jennifer Sava. Please include a daytime phone number where a point of contact can be reached as well as an e-mail address, if available. Please submit information by February 16, 2001.

Once a group, association, or individual has been selected to serve on the Task Force, the Service will notify the point of contact and will provide further instruction.

Who Can Be Contacted If There Are Questions Concerning This Task Force?

For questions concerning this Task Force, please contact Jennifer Sava, Office of Inspections, Immigration and Naturalization Service, 425 I Street, NW, Room 4064, Washington, DC 20536; telephone (202) 514-3019.

Dated: January 3, 2001.
Mary Ann Wyrsch,
Acting Commissioner, Immigration and Naturalization Service.

[FR Doc. 01-1202 Filed 1-12-01; 8:45 am]

BILLING CODE 4410-10-M